CONSUMER PRODUCT SAFETY COMMISSION

[Docket No. CPSC-2010-0046]

Agency Information Collection Activities; Extension and Revision of Collection; Consumer Focus Groups and Other Qualitative Studies

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for extension of approval of a collection of information from persons who may voluntarily participate in consumer focus groups. CPSC has also requested a revision of that collection. The Office of Management and Budget (OMB) previously approved the collection of information under Control Number 3041-0136. OMB's most recent extension of approval will expire on March 31, 2024. On November 28, 2023, CPSC published a notice in the Federal Register to announce the agency's intention to seek extension of approval of the collection of information. The Commission received no comments. Therefore, by publication of this notice, the Commission announces that CPSC has submitted to the OMB a request for extension of approval of that collection of information.

DATES: Submit comments on the collection of information by March 14, 2024.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2010-0046.

FOR FURTHER INFORMATION CONTACT: Cynthia Gillham, Consumer Product Safety Commission, 4330 East West Highway, Bethesda, MD 20814; (301) 504-7791, or by email to: pra@cpsc.gov.

SUPPLEMENTARY INFORMATION: CPSC seeks to extend the following currently approved collection of information, and to revise it to include additional forms of qualitative studies:

Title: Focus Groups and Other Qualitative Studies.

OMB Number: 3041-0136.

Type of Review: Extension and revision of collection.

Frequency of Response: On occasion.

Affected Public: Consumers.

Estimated Number of Respondents: CPSC estimates that this collection will involve 2,620 participants, including prospective focus group participants who are screened but ultimately not selected for participation.

Estimated Time per Response: We estimate that the average response time for each participant will be 1.1 hours.

Total Estimated Annual Burden: Based on CPSC's estimates that 2,620 participants will each spend an average of 1.1 hours responding to the collection, CPSC estimates that the total annual burden of this collection is 2,882 hours. The annualized cost to respondents for the information collection is $124,675.32 (2,882 hours × $43.26/hour), as estimated from total compensation data available from the U.S. Bureau of Labor Statistics.¹

¹ Total hourly compensation for all civilian workers is estimated by the U.S. Bureau of Labor Statistics to be $43.26: Employer Costs for Employee Compensation, June 2023, Table 1, (https://www.bls.gov/news.release/archives/ecec_09122023.pdf).

General Description of Collection: Section 5(a) of the Consumer Product Safety Act (CPSA), 15 U.S.C. 2054(a), authorizes the Commission to conduct studies and investigations relating to the causes and prevention of deaths, accidents, injuries, illnesses, other health impairments, and economic losses associated with consumer products. Section 5(b) of the CPSA, 15 U.S.C. 2054(b), further provides that the Commission may conduct research, studies, and investigations on the safety of consumer products. The Commission may also test consumer products and develop product safety test methods and testing devices.

To help identify and evaluate product-related incidents, Commission staff invites and obtains direct feedback from consumers on issues related to product safety, such as recall effectiveness, product use, and perceptions regarding safety issues. The information that CPSC collects from future focus groups—including usability studies and ethnographic studies for consumer products, which are being added to this revised collection—will help inform the Commission's identification and evaluation of consumer products and product uses by providing insight and information into consumer perceptions and usage patterns. In some cases, one-on-one interviews may be conducted as a more in-depth extension of a focus group, or in place of a traditional focus group or study. This information may also assist the Commission in its efforts to support voluntary standards activities and help CPSC identify emerging consumer safety issues requiring additional research. In addition, based on the information obtained, CPSC may be able to improve the readability and comprehension of safety information provided to the public.

Alberta E. Mills,
Secretary, Consumer Product Safety Commission.

[FR Doc. 2024-02901 Filed 2-12-24; 8:45 am]

BILLING CODE 6355-01-P